FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Request for Federal Assistance Form (How to Process Mission Assignments).

Type of Information Collection: Extension of a currently approved collection.

OMB Number: 3067-0278.

Abstract: Information on the Request for Federal Assistance (RFA) form is required to document requests for Federal assistance and any resulting mission assignments to other Federal agencies. Other methods used to obtain the request portion of the RFA include internal existing State forms. No alternative exists to obligate a mission assignment in FEMA's official integrated financial management system.

Affected Public: Federal Government, State, Local or Tribal Government.

Number of Respondents: 56.

Estimated Time per Respondent: 20 minutes.

Estimated Total Annual Burden Hours: 182 hours.

Frequency of Response: After a disaster.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524, or e-mail address: muriel.anderson@fema.gov.

Mike Bozzelli,
Acting Director, Program Services Division, Operations Support Directorate.

[FR Doc. 00-28259 Filed 11-2-00; 8:45 am]

BILLING CODE 6718-01-P